DEPARTMENT OF COMMERCE

Foreign-Trade Zones Board

[Docket 70-2010]

Foreign-Trade Zone 158—Vicksburg/Jackson, MS; Application for Expansion

Correction

In notice document 2010-31877 beginning on page 79335 in the issue of Monday, December 20, 2010, make the following correction:

The subject is corrected to read as set forth above.

[FR Doc. C1-2010-31877 Filed 12-29-10; 8:45 am]

BILLING CODE 1505-01-P